DEPARTMENT OF ENERGY

Federal Energy Regulatory Commission

[Docket No. RD11-10-000]

Commission Information Collection Activities (FERC-725A); Comment Request; Submitted for OMB Review

AGENCY: Federal Energy Regulatory Commission, DOE.

ACTION: Notice.

SUMMARY: In compliance with the requirements of section 3507(a)(1) of the Paperwork Reduction Act of 1995, 44 U.S.C. 3507(a)(1), the Federal Energy Regulatory Commission (Commission or FERC) has submitted the information collection described below to the Office of Management and Budget (OMB) for review. Any interested person may file comments directly with OMB and should address a copy of those comments to the Commission as explained below. In compliance with section 3506 of the Paperwork Reduction Act, the Commission previously issued a Notice in the Federal Register (76 FR 65504, 10/21/2011) requesting public comments. FERC received no comments on FERC-725A and has made this notation in its submission to OMB.

DATES: Comments in consideration of the collection of information are due February 24, 2012.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The proposed information collection in Docket No. RD11-10-000 relates to Reliability Standard, FAC-008-3—Facility Ratings, developed by the North American Electric Reliability Corporation (NERC) and approved by the Commission in an order dated November 17, 2011, with a January 1, 2013 effective date for the mandatory compliance with the revised Reliability Standard.¹ Reliability Standard FAC-008-3 modifies the currently effective version Reliability Standard FAC-008-1 and subsumes Reliability Standard FAC-009-1. Concurrent with the effective date of FAC-008-3, Reliability Standards FAC-008-1 and FAC-009-1 will be retired. The information collection requirements contained in Reliability Standards FAC-008 and FAC-009 are contained in FERC-725A (OMB Control Number 1902-0244).

¹ North American Electric Reliability Corp., 137 FERC ¶ 61,123 (2011).

There is a net increase in information collection and reporting that will result from implementing Reliability Standard FAC-008-3 and retiring the two superseded Reliability Standards. The breakdown is as follows:

FAC-008-3 | Applies to: | Additional reporting beyond FAC-008-1 and FAC-009-1 | Additional recordkeeping beyond FAC-008-1 and FAC-009-1
R1 | Generator owners | None, this requirement is derived from R1 of FAC-008-1 | Retention period increased by 2 years.
R2 | Generator owners | None, this requirement is derived from R1 of FAC-008-1 | Retention period increased by 2 years.
R3 | Transmission owners | None, this requirement is derived from R1 of FAC-008-1 | Retention period increased by 2 years.
R4 | Generator owners and Transmission owners | None, this requirement is derived from R2 of FAC-008-1 | Retention period increased by 2 years.
R5 | Generator owners and Transmission owners | None, this requirement is derived from R3 of FAC-008-1 | Retention period increased by 2 years.
R6 | Generator owners and Transmission owners | None, this requirement is derived from R1 of FAC-008-1 | Retention period increased by 2 years.
R7 | Generator owners | None, this requirement is derived from R2 of FAC-008-1 | Retention period increased by 2 years.
R8 | Generator owners that are subject to R2 and Transmission owners | Newly added reporting of the next most limiting equipment and the thermal rating for the next most limiting equipment | New retention period of 3 years.

Burden Statement: Public reporting burden for this proposed collection is estimated as:

Additional proposed burden in FERC-725A | Number of respondents per compliance registry summary as of August 29, 2011 | Number of responses per respondent | Hours per respondent per response | Total annual hours
| (A) | (B) | (C) | ( A × B × C)
Report the next most limiting equipment and the thermal rating for the next most limiting equipment | ² 83 Generator owners | 1 | 80 | 6,640
Report the next most limiting equipment and the thermal rating for the next most limiting equipment | 342 Transmission owners | 1 | ³ 20 | 6,840
Increase in retention time by 2 years for R1 through R7 | 833 Generator owners | 1 | 2 | 1,666
Increase in retention time by 2 years for R1 through R7 | 342 Transmission owners | 1 | 2 | 684
Compliance sub-total |  |  |  | 13,480
Recordkeeping sub-total |  |  |  | 2,350
Total |  |  |  | 15,830

Estimated cost burden to respondents is $1,683,400; [i.e., (13,480 hours @ $120 an hour (compliance cost)) + (2,350 hours @ $28 an hour (recordkeeping cost))]. The reporting burden includes the total time, effort, or financial resources expended to generate, maintain, retain, or disclose or provide the information including: (1) Reviewing instructions, (2) developing, acquiring, installing, and utilizing technology and systems for the purposes of collecting, validating, verifying, processing, maintaining, disclosing and providing information, (3) adjusting the existing ways to comply with any previously applicable instructions and requirements, (4) training personnel to respond to a collection of information, (5) searching data sources, (6) completing and reviewing the collection of information, and (7) transmitting, or otherwise disclosing the information.

² Requirement R8 applies to generator owners that own facilities between the step-up transformer and the point of interconnection. We estimate that 10% of all NERC registered generator owners own such facilities.

³ Transmission Owner estimate based on the supplemental work required to report the next most limiting equipment and assumes all prerequisite work was performed in compliance with currently effective Reliability Standard FAC-008-1.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any particular function or activity.

Dated: January 18, 2012.
Kimberly D. Bose,
Secretary.

[FR Doc. 2012-1467 Filed 1-24-12; 8:45 am]

BILLING CODE 6717-01-P